DEPARTMENT OF LABOR

Occupational Safety and Health Administration

[Docket Number OSHA-2012-0020]

Whistleblower Protection Advisory Committee

AGENCY: Occupational Safety and Health Administration (OSHA), DOL.

ACTION: Request for nominations to serve on the Whistleblower Protection Advisory Committee.

SUMMARY: The Assistant Secretary of Labor for Occupational Safety and Health requests nominations for membership on the Whistleblower Protection Advisory Committee (WPAC).

DATES: Nominations for WPAC must be submitted (postmarked, sent, transmitted, or received) by July 27, 2012.

ADDRESSES: You may submit nominations for WPAC, identified by the OSHA Docket No., OSHA-2012-0020, by any of the following methods:

Electronically: Nominations, including attachments, may be submitted electronically at http://www.regulations.gov, which is the Federal eRulemaking Portal. Follow the instructions online for making electronic submissions.

Facsimile: If your nomination and supporting materials, including attachments, do not exceed 10 pages, you may fax them to the OSHA Docket Office at (202) 693-1648.

Mail, hand delivery, express mail, messenger or courier service: Submit your nominations and supporting materials to the OSHA Docket Office, Docket No. OSHA-2012-0020, U.S. Department of Labor, Room N-2625, 200 Constitution Avenue NW., Washington, DC 20210; telephone (202) 693-2350 (OSHA's TTY number is (877) 889-5627). Deliveries (hand, express mail, messenger and courier service) are accepted during the Department of Labor's and Docket Office's normal business hours, 8:15 a.m.-4:45 p.m., e.t.

Instructions: All nominations and supporting materials for WPAC must include the Agency name and docket number for this Federal Register notice (Docket No. OSHA-2012-0020). Because of security-related procedures, submitting nominations by regular mail may result in a significant delay in their receipt. Please contact the OSHA Docket Office for information about security procedures for submitting nominations by hand delivery, express delivery, and messenger or courier service. For additional information on submitting nominations see the “Public Participation—Submission of Nominations and Access to Docket” heading in the SUPPLEMENTARY INFORMATION section below.

Submissions in response to this Federal Register notice, including personal information provided, are posted without change at http://www.regulations.gov. Therefore, OSHA cautions interested parties about submitting personal information such as social security numbers and dates of birth.

Docket: To read or download submissions or other material in the docket, go to http://www.regulations.gov or the OSHA Docket Office at the address above. All documents in the docket are listed in the http://www.regulations.gov index; however, some information (e.g., copyrighted material) is not publicly available to read or download through that Web site. All submissions, including copyrighted material, are available for inspection and copying at the OSHA Docket Office.

FOR FURTHER INFORMATION CONTACT: Sandra Dillon, Director, Office of the Whistleblower Protection Program, Occupational Safety and Health Administration, U.S. Department of Labor, Room N-3610, 200 Constitution Avenue NW., Washington, DC., 20210; telephone (202) 693-2199, this is not a toll-free number; email address Dillon.Sandra@dol.gov.

SUPPLEMENTARY INFORMATION: The Assistant Secretary of Labor for Occupational Safety and Health (Assistant Secretary) invites interested individuals to submit nominations for membership on the Whistleblower Protection Advisory Committee (WPAC).

WPAC's duties are solely advisory and consultative. WPAC advises, consults with, and makes recommendations to the Secretary of Labor (Secretary) and the Assistant Secretary on matters relating to the improvement of the fairness, efficiency, effectiveness and transparency of OSHA's whistleblower protection activities. In particular, WPAC will make recommendations regarding the development and/or implementation of:

• Better customer service to both workers who raise complaints and employers who are the subject of investigations;

• Improvement in the investigative and enforcement process, and the training of OSHA investigators;

• Improvement of regulations governing OSHA investigations;

• Cooperative activities with federal agencies responsible for areas also covered by the whistleblower protection statutes enforced by OSHA; and

• Other matters concerning the fairness, efficiency and transparency of OSHA's whistleblower investigations as identified by the Secretary or the Assistant Secretary.

WPAC is a continuing advisory body and operates in compliance with the Occupational Safety and Health Act of 1970, as well as the Federal Advisory Committee Act (5 U.S.C. App. 2) and its implementing regulations (see “Authority and Signature” section).

WPAC is comprised of 12 voting members, all of whom the Secretary appoints. The composition of WPAC and categories of new members to be appointed are as follows:

• Four management representatives who are employers or are from employer associations in industries covered by one or more of the whistleblower laws;

• Four labor representatives who are workers or from worker advocacy organizations in industries covered by one or more of the whistleblower laws;

• One member represents the State Plan states; and

• Three public representatives from colleges, universities, non-partisan think tanks, and/or other entities, that have extensive knowledge and expertise on whistleblower statutes and issues.

In addition, the committee will also have three Ad hoc/Ex-officio/Non-voting members who are regular government employees from other Federal Government agencies. They will be selected by the Secretary from Departments that have jurisdiction over statutes with whistleblower provisions, for example, the Securities and Exchange Commission (Sarbanes-Oxley Act), or the Department of Transportation's Federal Aviation Administration (Wendell H. Ford Aviation Investment and Reform Act for the 21st Century), or the Federal Railroad Administration (Federal Railroad Safety Act).

The members serve two-year terms, unless a member becomes unable to serve, resigns, ceases to be qualified to serve, or is removed by the Secretary. If a vacancy occurs before a term expires, the Secretary may appoint a new member who represents the same interest as the predecessor to serve for the remainder of the unexpired term. The committee meets at least two times a year.

Any individual or organization may nominate one or more qualified persons for membership. Nominations must include the nominee's name, contact information, and current occupation or position. The nomination also must include a resume of the nominee's background, experience and qualifications. The nomination must identify the category that the candidate is qualified to represent, and include a statement that the nominee is aware of the nomination and is willing to serve on WPAC for a two-year term.

WPAC members will be selected on the basis of their experience, knowledge, and competence in the field of whistleblower protection. The information received through this nomination process, in addition to other relevant sources of information, will assist the Secretary in appointing members to serve on WPAC. In selecting WPAC members, the Secretary will consider individuals nominated in response to this Federal Register notice, as well as other qualified individuals.

Before candidates are appointed, the U.S. Department of Labor (Department) conducts a basic background check using publically available, Internet-based sources.

The Department is committed to bringing greater diversity of thought, perspective and experience to its advisory committees. In addition, the Department encourages nominees of all races, genders, ages, disabilities and sexual orientations to apply.

Public Participation—Submission of Nominations and Access to Docket

You may submit nominations (1) Electronically at http://www.regulations.gov, the Federal eRulemaking Portal; (2) by facsimile (fax); or, (3) by hard copy. All comments, attachments and other material must identify the Agency name and docket number for this Federal Register notice, (OSHA Docket No. OSHA 2012-0020). You may supplement electronic nominations by uploading document files electronically. If, instead, you wish to mail additional materials in reference to an electronic or fax submission, you must submit the documents to the OSHA Docket Office (see ADDRESSES section above). The additional materials must clearly identify your electronic nomination by name, date, and docket number so OSHA can attach them to your nomination. Because of security-related procedures, the use of regular mail may cause a significant delay in the receipt of nominations. For information about security procedures concerning the delivery of materials by hand, express delivery, messenger or courier service, please contact the OSHA Docket Office (see ADDRESSES section above).

Submissions are posted without change at http://www.regulations.gov. OSHA therefore cautions individuals about submitting personal information such as social security numbers and dates of birth. Although all submissions are listed in the http://www.regulations.gov index, some information (e.g., copyrighted material) is not publicly available to read or download through http://www.regulations.gov. All submissions, including copyrighted material, are available for inspection and copying at the OSHA Docket Office.

Information on using the http://www.regulations.gov Web site to submit comments and access the docket is available at the Web site. Contact the OSHA Docket Office for information about materials not available through the Web site and for assistance in using the Internet to locate docket submissions.

Electronic copies of this Federal Register document are available at: http://www.regulations.gov. This document, as well as news releases and other relevant information, also are available at OSHA's Web site at http://www.osha.gov.

Authority and Signature

David Michaels, Ph.D., MPH, Assistant Secretary of Labor for Occupational Safety and Health, directed the preparation of this notice under the authority granted by the Federal Advisory Committee Act (FACA), as amended (5 U.S.C. App. 2), its implementing regulations (41 CFR Part 102-3), chapter 1600 of Department of Labor Management Series 3 (Mar. 17, 2008), Secretary of Labor's Order 1-2012 (Jan. 18, 2012), 77 FR 3912 (Jan. 25, 2012), and the Secretary of Labor's authority to administer the whistleblower provisions found in Section 11(c) of the Occupational Safety and Health Act, 29 U.S.C. 660(c); the Surface Transportation Assistance Act, 49 U.S.C. 31105; the Asbestos Hazard Emergency Response Act, 15 U.S.C. 2651; the International Safe Container Act, 46 U.S.C. 80507; the Safe Drinking Water Act, 42 U.S.C. 300j-9(i); the Federal Water Pollution Control Act, 33 U.S.C. 1367; the Toxic Substances Control Act, 15 U.S.C. 2622; the Solid Waste Disposal Act, 42 U.S.C. 6971; the Clean Air Act, 42 U.S.C. 7622; the Comprehensive Environmental Response, Compensation, and Liability Act, 42 U.S.C. 9610; the Energy Reorganization Act, 42 U.S.C. 5851; the Wendell H. Ford Aviation Investment and Reform Act for the 21st Century, 49 U.S.C. 42121; the Sarbanes-Oxley Act, 18 U.S.C. 1514A; the Pipeline Safety Improvement Act, 49 U.S.C. 60129; the Federal Railroad Safety Act, 49 U.S.C. 20109; the National Transit Systems Security Act, 6 U.S.C. 1142; the Consumer Product Safety Improvement Act, 15 U.S.C. 2087; Section 1558 of the Affordable Care Act, P.L. 111-148; the Consumer Financial Protection Act of 2010, 12 U.S.C.A. 5567, the Seaman's Protection Act, 46 U.S.C. 2114, and Section 402 of the FDA Food Safety Modernization Act, Public Law 111-353.

Signed at Washington, DC, on June 6, 2012.
David Michaels,
Assistant Secretary of Labor for Occupational Safety and Health.

[FR Doc. 2012-14170 Filed 6-11-12; 8:45 am]

BILLING CODE 4510-26-P